DEPARTMENT OF ENERGY

10 CFR Parts 430 and 431

[EERE-2016-BT-TP-0011]

RIN 1904-AD95

Energy Conservation Program: Test Procedures for Residential and Commercial Clothes Washers

AGENCY: Office of Energy Efficiency and Renewable Energy, Department of Energy.

ACTION: Reopening of public comment period.

SUMMARY: The U.S. Department of Energy (“DOE”) is reopening the public comment period for its Request for Information (“RFI”) regarding test procedures for residential and commercial clothes washers. DOE published the RFI in the Federal Register on May 22, 2020, establishing a 30-day public comment period that ended June 22, 2020. On June 10, 2020, DOE received a comment requesting extension of the comment period by 30 days (and no less than two weeks). In addition, on June 11, 2020, DOE received a comment requesting extension of the comment period by 60 days. DOE is reopening the public comment period for submitting comments and data on the RFI to July 6, 2020.

DATES: The comment period for the RFI published on May 22, 2020 (85 FR 31065), is reopened. DOE will accept comments, data, and information regarding this RFI received no later than July 6, 2020.

ADDRESSES: Interested persons are encouraged to submit comments, identified by docket number EERE-2016-BT-TP-0011, by any of the following methods:

Federal eRulemaking Portal: http://www.regulations.gov. Follow the instructions for submitting comments.

Email: ResClothesWasher2016TP0011@ee.doe.gov. Include the docket number EERE-2016-BT-TP-0011 and/or RIN 1904-AD95 in the subject line of the message. Submit electronic comments in WordPerfect, Microsoft Word, PDF, or ASCII file format, and avoid the use of special characters or any form of encryption.

Postal Mail: Appliance and Equipment Standards Program, U.S. Department of Energy, Building Technologies Office, Mailstop EE-5B, 1000 Independence Avenue SW, Washington, DC 20585-0121. If possible, please submit all items on a compact disc (“CD”), in which case it is not necessary to include printed copies.

Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted.

Docket: For access to the docket to read background documents, or comments received, go to the Federal eRulemaking Portal at http://www.regulations.gov/#!docketDetail;D=EERE-2016-BT-TP-0011.

The docket, which includes Federal Register notices, public meeting attendee lists and transcripts, comments, and other supporting documents/materials, is available for review at http://www.regulations.gov. All documents in the docket are listed in the http://www.regulations.gov index. However, some documents listed in the index may not be publicly available, such as those containing information that is exempt from public disclosure.

The docket web page can be found at: http://www.regulations.gov/#!docketDetail;D=EERE-2016-BT-TP-0011. The docket web page contains instructions on how to access all documents, including public comments, in the docket.

FOR FURTHER INFORMATION CONTACT:

Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Elizabeth Kohl, U.S. Department of Energy, Office of the General Counsel, GC-33, 1000 Independence Avenue SW, Washington, DC 20585-0121. Telephone: (202) 586-7796. Email: Elizabeth.Kohl@hq.doe.gov.

For further information on how to submit a comment or review other public comments and the docket contact the Appliance and Equipment Standards Program staff at (202) 287-1445 or by email: ApplianceStandardsQuestions@ee.doe.gov.

SUPPLEMENTARY INFORMATION: On May 22, 2020, DOE published a RFI in the Federal Register soliciting public comment on its test procedures for residential and commercial clothes washers. 85 FR 31065. Comments were originally due on June 22, 2020. On June 10, 2020, DOE received a comment from Association of Home Appliance Manufacturers (“AHAM”) requesting extension of the comment period by 30 days (and no less than two weeks).¹ In addition, on June 11, 2020, DOE received a comment from the Appliance Standards Awareness Project (ASAP), Northwest Energy Efficiency Alliance (NEEA), Natural Resources Defense Council (NRDC), Pacific Gas and Electric Company (PG&E), San Diego Gas and Electric (SDG&E), and Southern California Edison (SCE) to extend the DOE comment period for the Test Procedure RFI for Residential and Commercial Clothes Washers by 60 days, extending the comment submission deadline from June 22, 2020, to August 21, 2020.² DOE has reviewed the requests and considered the benefit to stakeholders in providing additional time to review the RFI and gather information/data that DOE is seeking. Accordingly, DOE has determined that a reopening of the comment period is appropriate, and will accept comments period until July 6, 2020. DOE will consider any comments received from June 22, 2020 through the end of the comment period to be timely submitted. DOE feels that the additional time provided is adequate for stakeholders to respond to the RFI.

¹ DOE has posted this comment to the docket at https://www.regulations.gov/document?D=EERE-2016-BT-TP-0011-0002.

² DOE has posted this comment to the docket at https://www.regulations.gov/document?D=EERE-2016-BT-TP-0011-0003.

Signing Authority

This document of the Department of Energy was signed on June 16, 2020, by Alexander N. Fitzsimmons, Deputy Assistant Secretary for Energy Efficiency, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 16, 2020.
Treena V. Garrett,
Federal Register Liaison Officer, U.S. Department of Energy.

[FR Doc. 2020-13279 Filed 6-24-20; 8:45 am]

BILLING CODE 6450-01-P